FEDERAL COMMUNICATIONS COMMISSION

Radio Broadcasting Services; AM or FM Proposals To Change the Community of License

AGENCY: Federal Communications Commission.

ACTION: Notice.

SUMMARY: The following applicants filed AM or FM proposals to change the community of license: COCHISE BROADCASTING LLC, Station KZXQ, Facility ID 78273, BPH-20071025ACM, From RESERVE, NM, To CONCHO, AZ; DAILEY CORPORATION, Station WETZ-FM, Facility ID 18534, BPH-20100329AFI, From NEW MARTINSVILLE, WV, To VIENNA, WV; LOUT, JAMES M, Station NEW, Facility ID 170971, BMPH-20100301ABS, From PINELAND, TX, To BROWNDELL, TX; MIRIAM MEDIA, INC., Station KTTQ, Facility ID 170986, BMPH-20100330ABQ, From TURKEY, TX, To MCLEAN, TX; MUNBILLA BROADCASTING PROPERTIES, LTD., Station KYRT, Facility ID 165378, BPH-20100312AAQ, From MASON, TX, To HUNT, TX; RINCON BROADCASTING LS LLC, Station KIST-FM, Facility ID 31434, BPH-20100301ADV, From SANTA BARBARA, CA, To CARPINTERIA, CA; RINCON BROADCASTING LS LLC, Station KSBL, Facility ID 35592, BPH-20100301ADX, From CARPINTERIA, CA, To ISLA VISTA, CA; WEST JACKSONVILLE BAPTIST CHURCH, INC., Station WJBC-FM, Facility ID 47425, BMPED-20100310AAK, From FERNANDINA BEACH, FL, To ORANGE PARK, FL; WOMAN'S WORLD BROADCASTING, INC., Station WTSH-FM, Facility ID 7043, BPH-20091113ACH, From ARAGON, GA, To ROCKMART, GA; WORLD RADIO LINK, INCORPORATED, Station KMVV, Facility ID 164296, BPH-20100310ACL, From STERLING, AK, To MEADOW LAKES, AK.

DATES: Comments may be filed through June 21, 2010.

ADDRESSES: Federal Communications Commission, 445 Twelfth Street, SW., Washington, DC 20554.

FOR FURTHER INFORMATION CONTACT: Tung Bui, 202-418-2700.

SUPPLEMENTARY INFORMATION: The full text of these applications is available for inspection and copying during normal business hours in the Commission's Reference Center, 445 12th Street, SW., Washington, DC 20554 or electronically via the Media Bureau's Consolidated Data Base System, http://svartifoss2.fcc.gov/prod/cdbs/pubacc/prod/cdbs_pa.htm. A copy of this application may also be purchased from the Commission's duplicating contractor, Best Copy and Printing, Inc., 445 12th Street, SW., Room CY-B402, Washington, DC 20554, telephone 1-800-378-3160 or http://www.BCPIWEB.com.

Federal Communications Commission.
Rodolfo F. Bonacci,
Assistant Chief, Audio Division, Media Bureau.

[FR Doc. 2010-9094 Filed 4-19-10; 8:45 am]

BILLING CODE 6712-01-P